ENVIRONMENTAL PROTECTION AGENCY

[Petition IV-2008-3; FRL-8962-8 ]

Clean Air Act Operating Permit Program; Petition for Objection to State Operating Permit for Louisville Gas and Electric Company—Trimble County Generating Station; Bedford (Trimble County), KY

AGENCY: Environmental Protection Agency (EPA).

ACTION: Notice of final order on petition to object to a state operating permit.

SUMMARY: Pursuant to Clean Air Act (CAA) Section 505(b)(2) and 40 CFR 70.8(d), the EPA Administrator signed an Order, dated August 12, 2009, partially granting and partially denying a petition to object to a state operating permit issued by the Kentucky Division for Air Quality (KDAQ) to Louisville Gas and Electric (LG&E) for its Trimble County Generating Station located in Bedford, Trimble County, Kentucky. This Order constitutes a final action on the petitions submitted by Save the Valley, Sierra Club, and Valley Watch (Petitioners) on April 28, 2008 (Petition 2), and March 2, 2006 (Petition 1), respectively. Pursuant to section 505(b)(2) of the CAA, any person may seek judicial review of the Order in the United States Court of Appeals for the appropriate circuit within 60 days of this notice under section 307(b) of the Act.

ADDRESSES: Copies of the Order, the petition, and all pertinent information relating thereto are on file at the following location: EPA Region 4, Air, Pesticides and Toxics Management Division, 61 Forsyth Street, SW., Atlanta, Georgia 30303-8960. The Order is also available electronically at the following address: http://www.epa.gov/region07/programs/artd/air/title5/petitiondb/petitions/lg&e_2nddecision2006.pdf.

FOR FURTHER INFORMATION CONTACT: Art Hofmeister, Air Permits Section, EPA Region 4, at (404) 562-9115 or hofmeister.art@epa.gov.

SUPPLEMENTARY INFORMATION: The CAA affords EPA a 45-day period to review and, as appropriate, the authority to object to operating permits proposed by state permitting authorities under title V of the CAA, 42 U.S.C. 7661-7661f. Section 505(b)(2) of the CAA and 40 CFR 70.8(d) authorize any person to petition the EPA Administrator to object to a title V operating permit within 60 days after the expiration of EPA's 45-day review period if EPA has not objected on its own initiative. Petitions must be based only on objections to the permit that were raised with reasonable specificity during the public comment period provided by the State, unless the petitioner demonstrates that it was impracticable to raise these issues during the comment period or the grounds for the issues arose after this period.

Petitioners submitted the first of two petitions regarding the LG&E Trimble County Generating Station on March 2, 2006, requesting that EPA object to Revision 2 to the LG&E merged prevention of significant deterioration and title V operating permit. The second petition, regarding Revision 3 to the merged permit, was submitted on April 29, 2008. On September 10, 2008, EPA issued a “Partial Order Responding to March 2, 2006, Petition and Denying in Part and Granting in Part Request for Objection to Permit Revision 2.” In the September 2008 Order, EPA explained that some issues raised in Petition 1 were affected by permit Revision 3 and also discussed in Petition 2. At this time, EPA is addressing all the remaining issues identified by Petitioners in Petitions 1 and 2.

Petitioners alleged that the permit was not consistent with the CAA for the following reasons: (1) Public participation procedures were not adequate; (2) the permit failed to include requirements for addressing green house gases; (3) the best available control technology (BACT) analysis for nitrogen oxides and sulfur dioxide was not adequate; (4) BACT for the auxiliary boiler and emergency diesel generator were not adequate; (5) BACT for support operations was not adequate; (6) BACT for particulate matter (PM) and particulate matter with a diameter less than or equal to ten micrometers (PM10) was not adequate; (7) BACT for sulfuric acid mist (SAM) was not adequate; (8) the permit failed to consider particulate matter with a diameter less than or equal to 2.5 micrometers; (9) the permit failed to express limits in an adequate manner; (10) BACT analyses did not include clean fuels; (11) the permit lacked a maximum achievable control technology determination for mercury and other hazardous air pollutants; (12) the emission limits for SAM, PM/PM10, and mercury were not enforceable (compliance assurance monitoring concerns); and (13) the permit improperly relied on manufacturer specifications that are not included in the permit, did not identify test methods, and additional concerns regarding netting.

On August 12, 2009, the Administrator issued an Order partially granting and partially denying the petition. The Order explains EPA's rationale for granting the petition with respect to issues 4 and 8, above, and denying on the other issues.

Dated: September 14, 2009.
A. Stanley Meiburg,
Acting Regional Administrator, Region 4.

[FR Doc. E9-23077 Filed 9-23-09; 8:45 am]

BILLING CODE 6560-50-P